DEPARTMENT OF THE INTERIOR

Bureau of Land Management

[UT-062-1430-ET; UTU-75392]

Notice of Proposed Withdrawal and Notice of Public Meetings; Utah (Amendment)

AGENCY: Bureau of Land Management, Interior.

ACTION: Notice.

SUMMARY: This notice amends previous notice from Volume 64, Number 241, page 70279-70282, dated December 16, 1999. In the previous notice the Bureau of Land Management proposed to withdraw 131,340 acres of public land to protect the scenic and recreational values of portions of the Colorado, Dolores, and Green river corridors in Southeastern Utah. The previous notice segregated the lands for up to 2 years from location and entry under the United States mining laws. This amendment deletes approximately 4,000 acres from the proposed withdrawal area. The subject 4,000 acres are located on the west side of the Green River in Desolation Canyon, Carbon County, and lie within an area already withdrawn as Naval Oil Shale Reserve 2. The public meeting in Moab will be held in the Grand County Courthouse, 125 E. Center Street, Moab, instead of the BLM Field Office.

DATES: Effective date is January 19, 2000.

ADDRESSES: Comments should be sent to the Moab Field Office Manager, 82 East Dogwood Avenue, Moab, Utah 84532.

FOR FURTHER INFORMATION CONTACT: Mary von Koch, Realty Specialist, Moab Field Office, 82 East Dogwood Avenue, Moab, Utah 84532, (435) 259-2128.

SUPPLEMENTARY INFORMATION: The following described lands are deleted from the list of lands previously identified for withdrawal consideration.

Salt Lake Meridian

T. 12 S., R. 18 E.,

sec. 3, lots 3, 4, and 8, and SW¼SW¼;

sec. 4, lots 1 to 4, inclusive, and S½;

sec. 5, lots 1 to 8, inclusive, and 12, and W½SW¼;

sec. 6, E½SE¼;

sec. 7, E½ E½, SW¼ NE¼, and W½SE¼;

sec. 8, lots 1, 4, 5, 9, and 12 to 14, inclusive, W½ W½, and SE¼SW¼;

sec. 9, lots 1, 2, 6, 7, and 8, N½NE¼, and NW¼;

sec. 10, lots 1 to 4, and 7 to 10, inclusive, and SE¼NE¼;

sec. 11, lots 2, 3, and 6;

sec. 17, lots 3, 4, 7, 8, and 9, NW¼, N½SW¼, and SW¼SW¼;

sec. 18, E½E½;

sec. 19, lots 3 and 4, E½, and E½SW¼;

sec. 20, lots 2, 3, 6, and 7, and W½W½;

sec. 29, lots 2 and 3;

sec. 30, lots 1, 3 to 6, and 10 to 12, inclusive;

sec. 31, lot 5.

T. 13 S., R. 18 E.

sec. 6, lot 4.

Aggregates approximately 3,875.43 acres in Carbon County.

Dated: January 10, 2000.
William Stringer,
Acting Moab Field Office Manager.

[FR Doc. 00-1199 Filed 1-18-00; 8:45 am]

BILLING CODE 4310-DQ-P